DEPARTMENT OF THE INTERIOR

Fish and Wildlife Service

Notice of Availability of the Assessment Plan: Lawrenceville, IL Former Indian Refinery Natural Resource Damage Assessment

AGENCY: Fish and Wildlife Service, Interior.

ACTION: Notice of 30-day comment period.

SUMMARY: Notice is given that the document titled “Assessment Plan: Lawrenceville, IL Former Indian Refinery NRDA” (“The Plan”) is available for public review and comment. The U.S. Department of the Interior and the State of Illinois are Trustees for natural resources considered in this assessment, pursuant to subpart G of the National Oil and Hazardous Substances Pollution Contingency Plan and Executive Order 12580.

Interested members of the public are invited to review and comment on the Plan.

DATES: Written comments on the Plan must be submitted by November 6, 2006.

ADDRESSES: Requests for copies of the Plan may be made to Mr. Tom Heavisides, Contaminant Assessment Section, Illinois Department of Natural Resources, One Natural Resources Way, Springfield, IL 62702-1271. This Assessment is also available on our Web site at: http://www.fws.gov/midwest/LawrencevilleNRDA/.

Comments on the Plan should be sent to Tom Heavisides of the Illinois Department of Natural Resources at the address listed above.

SUPPLEMENTARY INFORMATION: The Trustees are following the guidance of the Natural Resource Damages Assessment Regulations found at 43 CFR part 11. The Trustees are undertaking an assessment of damages resulting from the suspected injury to natural resources at the Former Indian Refinery Site in Lawrence County, IL which have been exposed to hazardous substances released into the environment. It is suspected that this exposure has caused injury and resultant damages to trust resources. The injury and resultant damages will be assessed under the Comprehensive Environmental Response, Compensation, and Liability Act (42 U.S.C. 9601 et seq.), as amended, and the Clean Water Act, as amended (33 U.S.C. 1251 et seq.). The Plan addresses the Trustees' overall assessment approach and utilizes existing data. Plan addenda may be prepared by the Trustees to provide public notice of additional data collection activities.

All written comments will be considered by the Trustees and included in the Report of Assessment, at the conclusion of the assessment process.

Dated: September 29, 2006.
Robyn Thorson,
Regional Director, Region 3.

[FR Doc. E6-16465 Filed 10-4-06; 8:45 am]

BILLING CODE 4310-55-P